DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 29, 2005.

Interested persons are invited to submit written comments regarding the subject matter of the investigations to the Director, Division of Trade Adjustment Assistance, at the address shown below, not later than August 29, 2005.

The petitions filed in this case are available for inspection at the Office of the Director, Division of Trade Adjustment Assistance, Employment and Training Administration, U.S. Department of Labor, Room C-5311, 200 Constitution Avenue, NW., Washington, DC 20210.

Signed at Washington, DC this 11th day of August 2005.
Timothy Sullivan,
Director, Division of Trade Adjustment Assistance.

Appendix
[Petitions instituted between 07/25/2005 and 07/29/2005]
TA-W | Subject firm (petitioners) | Location | Date of institution | Date of petition
57,612 | Warvel Products, Inc. (Comp) | Linwood, NC | 07/25/2005 | 07/19/2005
57,613 | Advantek, Inc. (State) | Minnetonka, MN | 07/25/2005 | 07/22/2005
57,614 | EMP (AFLCIO) | Escanaba, MI | 07/25/2005 | 07/13/2005
57,615 | Alfred Paquette (Wkrs) | Los Angeles, CA | 07/25/2005 | 07/13/2005
57,616 | Bubblegum USA-DBA Komex (State) | Los Angeles, CA | 07/26/2005 | 07/13/2005
57,617 | Gemtron Corporation (Comp) | Holland, MI | 07/26/2005 | 07/20/2005
57,618 | Albemarle Knitting Corporation (Comp) | Albemarle, NC | 07/26/2005 | 07/20/2005
57,619 | National Spinning Co., LLC (Comp) | Whiteville, NC | 07/26/2005 | 07/15/2005
57,620 | International Manufacturing (Wkrs) | El Paso, TX | 07/26/2005 | 07/20/2005
57,621 | Abbott Laboratories (State) | North Chicago, IL | 07/26/2005 | 07/26/2005
57,622 | K and K (Comp) | Booneville, MS | 07/27/2005 | 07/23/2005
57,623 | Lambert of Arkansas (State) | Hughes, AR | 07/27/2005 | 07/25/2005
57,624 | Northwest Manufacturing Corp. (Wkrs) | Corry, PA | 07/27/2005 | 07/26/2005
57,625 | GST AutoLeather (Comp) | Williamsport, MD | 07/27/2005 | 07/26/2005
57,626 | Willowbrook Hoisery (Wkrs) | Burlington, NC | 07/27/2005 | 07/26/2005
57,627 | Clearwater Loader, Inc. (Wkrs) | Kinston, NC | 07/27/2005 | 07/19/2005
57,628 | Black Hawk Products Group (Comp) | Hayesville, NC | 07/27/2005 | 07/22/2005
57,629 | Vivitone, Inc. (State) | Paterson, NJ | 07/27/2005 | 07/27/2005
57,630 | Regal Ware, Inc. (PACE) | Kewaskum, WI | 07/27/2005 | 07/27/2005
57,631 | Brodnax Mills, Inc. (Comp) | Brodnax, VA | 07/27/2005 | 06/29/2005
57,632 | Guilford Mills, Inc. (Wkrs) | Pine Grove, PA | 07/27/2005 | 07/18/2005
57,633 | Corona Clipper, Inc. (Comp) | Corona, CA | 07/28/2005 | 07/19/2005
57,634 | General Henry Biscuit (State) | DuQuoin, IL | 07/28/2005 | 07/25/2005
57,635 | St. John Knits (State) | Alhambra, CA | 07/28/2005 | 07/01/2005
57,636 | Delafoil Ohio, Inc. (Comp) | Perrysburg, OH | 07/28/2005 | 07/25/2005
57,637 | Merck and Company (Wkrs) | Danville, PA | 07/28/2005 | 07/28/2005
57,638 | Selma Oak Flooring (State) | Tillar, AR | 07/28/2005 | 07/28/2005
57,639 | Bernhardt Furniture Company (Comp) | Shelby, NC | 07/28/2005 | 07/28/2005
57,640 | Molex, Inc. (State) | Lisle, IL | 07/28/2005 | 07/28/2005
57,641 | Ryobi Technologies (State) | Anderson, SC | 07/28/2005 | 07/28/2005
57,642 | Andrews Center (Wkrs) | Tyler, TX | 07/29/2005 | 07/29/2005
57,643 | Madeleine Manufacturing, Inc. (Comp) | Union, SC | 07/29/2005 | 07/28/2005
57,644 | Eastman Kodak Company (Comp) | Rochester, NY | 07/29/2005 | 07/27/2005
57,645 | Meridian Beartrack Company (Comp) | Salmon, ID | 07/29/2005 | 07/25/2005
57,646 | Mason Shoe Companies (NPU) | Chippewa Falls, WI | 07/29/2005 | 07/28/2005
57,647 | PPG Fiber Glass Products (Comp) | Shelby, NC | 07/29/2005 | 07/28/2005
57,648 | U.S. Textiles (Comp) | Newland, NC | 07/29/2005 | 07/22/2005
57,649 | Hoover Company (The) (IBEW) | North Canton, OH | 07/29/2005 | 07/29/2005
57,650 | Meromex USA, Inc. (Comp) | El Paso, TX | 07/29/2005 | 07/21/2005

[FR Doc. E5-4502 Filed 8-17-05; 8:45 am]

BILLING CODE 4510-30-P